DEPARTMENT OF JUSTICE

Antitrust Division

Notice Pursuant to the National Cooperative Research and Production Act of 1993—Vehicle Infrastructure Integration Consortium

Notice is hereby given that, on May 1, 2006, pursuant to Section 6(a) of the National Cooperative Research and Production Act of 1993, 15 U.S.C. 4301 et seq. (“the Act”), Vehicle Infrastructure Integration Consortium (“VIIC”) has filed written notifications simultaneously with the Attorney General and the Federal Trade Commission disclosing (1) the identifies of the parties, and (2) the nature and objectives of the venture. The notifications were filed for the purpose of invoking the Act's provisions limiting the recovery of antitrust plaintiffs to actual damages under specified circumstances.

Pursuant to Section 6(b) of the Act, the identities of the parties to the venture are: BMW of North America, LLC, Woodcliff, NJ; DaimlerChrysler Corporation, Auburn Hills, MI; Ford Motor Company, Dearborn, MI; Honda R&D Americas, Inc., Southfield, MI; Nissan Technical Center North America, Inc., Farmington Hills, MI; and Volkswagen of America, Inc., Auburn Hills, MI. the general area of VIIC's planned activity is evaluation of the viability of development and deployment of a national infrastructure to enable data collection and exchange in real time between vehicles and between vehicles and the roadway.

Dorothy B. Fountain,
Deputy Director of Operations, Antitrust Division.

[FR Doc. 06-5036 Filed 6-1-06; 8:45 am]

BILLING CODE 4410-11-M